DEPARTMENT OF DEFENSE

Office of the Secretary

Board of Visitors Meeting

AGENCY: Defense Acquisition University.

ACTION: Board of Visitors meeting.

SUMMARY: The next meeting of the Defense Acquisition University (DAU) Board of Visitors (BoV) will be held at Defense Acquisition University, West Region, 33000 Nixie Way, San Diego, CA 92110. The purpose of this meeting is to report back to the BoV on continuing items of interest.

DATES: January 28, 2004 from 0900-1500.

ADDRESSES: Defense Acquisition University, West Region, 33000 Nixie Way, San Diego, CA 92110.

FOR FURTHER INFORMATION CONTACT: Ms. Patricia Cizmadia at 703-805-5134.

SUPPLEMENTARY INFORMATION: The meeting is open to the public; however, because of space limitations, allocation of seating will be made on a first-come, first served basis. Persons desiring to attend the meeting should call Ms. Patricia Cizmadia at 703-805-5134.

Dated: January 5, 2004.
Patricia L. Toppings,
Alternate OSD Federal Register Liaison Officer, Department of Defense.

[FR Doc. 04-508 Filed 1-9-04; 8:45 am]

BILLING CODE 5001-06-M